DEPARTMENT OF THE INTERIOR

Bureau of Indian Affairs

Advisory Board for Exceptional Children

AGENCY: Bureau of Indian Education, Interior.

ACTION: Notice of meeting.

SUMMARY: In accordance with the Federal Advisory Committee Act, the Bureau of Indian Education is announcing that the Advisory Board for Exceptional Children will hold its next meeting in Washington, DC. The purpose of the meeting is to meet the mandates of the Individuals with Disabilities Education Improvement Act of 2004 (IDEIA) on Indian children with disabilities.

DATES: The Board will meet on Saturday, February 3, 2007, from 6 p.m. to 9 p.m.; Sunday, February 4, 2007, from 8 a.m. to 4 p.m.; and Monday, February 5, 2007, from 8 a.m. to 4 p.m. Local Time.

ADDRESSES: The meetings will be held at the Wardman Park Marriott Hotel, 2660 Woodley Road, NW., Washington, DC 20008, on Saturday, February 3, 2007, and Sunday, February 4, 2007, and at the Department of the Interior, Main Building, 1849 C Street, NW., Washington, DC 20240, Room # 3622, on Monday, February 5, 2007.

Written statements may be submitted to Mr. Thomas M. Dowd, Director, Bureau of Indian Education, 1849 C Street, NW., MS-3609 MIB, Washington, DC 20240; Telephone (202) 208-6123; Fax (202) 208-3312.

FOR FURTHER INFORMATION CONTACT: Stanley R. Holder, Designated Federal Official, Bureau of Indian Education, Division of Compliance, Monitoring and Accountability, P.O. Box 1088, Suite 332, Albuquerque, New Mexico 87103; Telephone (505) 563-5270.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• Special Education Director's Report

• Status of Annual Performance Report

• IDEIA Regulations Training

• 2006-2007 Monitoring Activities

• Dispute Resolution Activities

• Review of the 2005-2006 Annual Report

• Eligibility Determination for Special Education Services: Reading First Procedures and/or Response to Intervention

• Mental Health Needs

The meetings are open to the public.

Dated: January 12, 2007.
Michael D. Olsen,
Principal Deputy Assistant Secretary—Indian Affairs.

[FR Doc. E7-744 Filed 1-18-07; 8:45 am]

BILLING CODE 4310-6W-P